DEPARTMENT OF DEFENSE

Department of the Army

[Docket ID USA-2013-0042]

Proposed Collection; Comment Request

AGENCY: Office of the Administrative Assistant to the Secretary of the Army (OAA-AAHS), DoD.

ACTION: Notice.

SUMMARY: In compliance with Section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 31, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Military Surface Deployment and Distribution Command (AMSSD-PP), ATTN: John Becker, Scott AFB, Illinois, 62225-1604, or call the Department of the Army Reports Clearance Officer at (703) 428-6440.

SUPPLEMENTARY INFORMATION: Title; Associated Form; and OMB Number: Uniform Tender of Rates and/or Changes for Domestic Transportation Services (DoD/USCG Sponsored Household Goods); OMB Control Number 0702-0018.

Needs and Uses: DoD approved household goods carrier file voluntary rates to engage in the movement of DoD and USCG Sponsored shipments within CONUS. SDDC evaluates the rates and awards the traffic to best value carriers whose rates are responsive and most service (value) to the government.

Affected Public: Business or other for-profit.

Annual Burden Hours: 279.

Number of Respondents: 836.

Responses per Respondent: 2.

Average Burden per Response: 10 minutes.

Frequency: Semi-annual.

The information collected on the Uniform Tender of Rates and/or Charges for Transportation Services and its iterations is provided by household good carriers to file rates in the Defense Personal Property System (DPPS). The electronic technology enhancement of the DPPS was fully implemented in November 2008. The form is currently available through the SDDC Web site.

Dated: November 26, 2013.
Aaron Siegel,
Alternate OSD Federal Register, Liaison Officer, Department of Defense.

[FR Doc. 2013-28751 Filed 11-29-13; 8:45 am]

BILLING CODE 5001-06-P